DEPARTMENT OF THE TREASURY

Internal Revenue Service

Open Meeting of the Taxpayer Advocacy Panel Taxpayer Assistance Center Project Committee

AGENCY: Internal Revenue Service (IRS), Treasury.

ACTION: Notice of meeting.

SUMMARY: An open meeting of the Taxpayer Advocacy Panel's Taxpayer Assistance Center Project Committee will be conducted. The Taxpayer Advocacy Panel is soliciting public comments, ideas, and suggestions on improving customer service at the Internal Revenue Service.

DATES: The meeting will be held Thursday, February 15, 2018 and Friday, February 16, 2018.

FOR FURTHER INFORMATION CONTACT: Gilbert Martinez at 1-888-912-1227 or (737) 800-4060.

SUPPLEMENTARY INFORMATION: Notice is hereby given pursuant to Section 10(a)(2) of the Federal Advisory Committee Act, 5 U.S.C. App. (1988) that an open meeting of the Taxpayer Advocacy Panel's Taxpayer Assistance Center Project Committee will be held Thursday, February 15, 2018, from 8:00 a.m. to 5:00 p.m. Central Time and Friday, February 16, 2018, from 8:00 a.m. until 12:00 p.m. Central Time at the IRS Office in Dallas, Texas. The public is invited to make oral comments or submit written statements for consideration. Due to limited time and structure of meeting, notification of intent to participate must be made with Gilbert Martinez. For more information please contact Gilbert Martinez at 1-888-912-1227 or 214-413-6523, or write TAP Office 3651 S. IH-35, STOP 1005 AUSC, Austin, TX 78741, or post comments to the website: http://www.improveirs.org.

Dated: January 10, 2018.
Antoinette Ross,
Acting Director, Taxpayer Advocacy Panel.

[FR Doc. 2018-00728 Filed 1-17-18; 8:45 am]

BILLING CODE 4830-01-P